FEDERAL COMMUNICATIONS COMMISSION

Notice of Public Information Collection(s) Being Reviewed by the Federal Communications Commission, Comments Requested

October 1, 2010.

SUMMARY: The Federal Communications Commission, as part of its continuing effort to reduce paperwork burden invites the general public and other Federal agencies to take this opportunity to comment on the following information collection(s), as required by the Paperwork Reduction Act (PRA) of 1995, 44 U.S.C. 3501-3520. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden on small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before December 20, 2010. If you anticipate that you will be submitting PRA comments, but find it difficult to do so within the period of time allowed by this notice, you should advise the FCC contact listed below as soon as possible.

ADDRESSES: Direct all PRA comments to Nicholas A. Fraser, Office of Management and Budget, via fax at 202-395-5167 or via the Internet at Nicholas_A._Fraser@omb.eop.gov and to the Federal Communications Commission via e-mail to PRA@fcc.gov.

FOR FURTHER INFORMATION CONTACT: For additional information, contact Judith B. Herman, OMD, 202-418-0214 or e-mail Judith-b.herman@fcc.gov.

SUPPLEMENTARY INFORMATION: OMB Control Number: 3060-0698.

Title: Sections 25.203(i) and 73.1030(a)(2), Radio Astronomy Coordination Zone in Puerto Rico.

Form No.: N/A.

Type of Review: Revision of a currently approved collection.

Respondents: Business or other for-profit, not-for-profit institutions, and state, local or tribal government.

Number of Respondents and Responses: 200 respondents; 1,000 responses.

Estimated Time per Response: 5-40 minutes (.0833 hours to .667 hours).

Frequency of Response: On occasion reporting requirement and third party disclosure requirement.

Obligation to Respond: Required to obtain or retain benefits. Statutory authority for this information collection is contained in 47 U.S.C. sections 154(i), 303(c), 303(f), 303(g), 303(r), and 309(j)(13).

Total Annual Burden: 142 hours.

Total Annual Cost: N/A.

Privacy Act Impact Assessment: N/A.

Nature and Extent of Confidentiality: There is no need for confidentiality.

Needs and Uses: The Commission will submit this revised collection to the Office of Management and Budget (OMB) after this comment period to obtain the full three year approval from them. The Commission is revising this information collection because Part 23 rules, specifically section 23.20, was eliminated because there are no International Fixed Public Radiocommunication Services (IFPRS) licenses in operation. On January 14, 2010, a Report and Order, IB Docket No. 05-216, FCC 10-7, was adopted that eliminated Part 23 rules and the frequency allocations for IFPRS in the Table of Frequency Allocation. Part 23 was created in the 1930s. IFPRS more recently was made up of point-to-point microwave services. For many years, these facilities provided an important form of international communications. More recently, however IFPRS has been limited to point-to-point microwave services provided between islands in the Caribbean Sea. Therefore, the Commission has removed this rule section from this information collection.

The Commission published a 60-day delegated notice on September 22, 2010 (75 FR 57792) which incorrectly stated that we would submit this collection as an extension (no change in the Commission's reporting and/or third party disclosure requirements). However, after publication of this notice in the Federal Register, FCC 10-7 was discovered that changed this information collection. So, the Commission decided to publish another notice with accurate information on how we are treating and submitting this OMB submission.

The existing requirements for this information collection are contained in parts 25 and 73. In a 1997 Report and Order, the Commission established a Coordination Zone for new and modified radio facilities in various communications services that cover the islands of Puerto Rico, Desecheo, Mona, Vieques, and Culebra within the Commonwealth of Puerto Rico. The coordination zone and notification procedures enable the Arecibo Radio Astronomy Observatory to receive information needed to assess whether an applicant's proposed operations will cause harmful interference to the Arecibo Observatory's operations, which also promotes efficient resolution of coordination problems between the applicants and the Observatory. The Observatory will perform interference evaluations at no cost to applicants. If potential interference problems are identified, applicants are required to make reasonable attempts to resolve or mitigate such problems in order to protect the Observatory.

Federal Communications Commission.
Marlene H. Dortch,
Secretary.

[FR Doc. 2010-26542 Filed 10-20-10; 8:45 am]

BILLING CODE 6712-01-P